ENVIRONMENTAL PROTECTION AGENCY

[FRL-9243-8]

Science Advisory Board Staff Office; Notification of Two Public Quality Review Teleconferences of the Chartered Science Advisory Board

AGENCY: Environmental Protection Agency (EPA).

ACTION: Notice.

SUMMARY: The EPA Science Advisory Board (SAB) Staff Office announces two public teleconferences of the chartered SAB to conduct quality reviews of three SAB draft reports. On January 19, 2011, the chartered SAB will review two draft SAB Panel reports entitled “Review of The Effects of Mountaintop Mines and Valley Fills on Aquatic Ecosystems of the Central Appalachian Coalfields” and “Review of Field-Based Aquatic Life Benchmark for Conductivity in Central Appalachian Streams.” On January 20, 2011 the SAB will review a draft SAB Committee report entitled “Reactive Nitrogen in the United States; an Analysis of Inputs, Flows, Consequences, and Management Options: A Report of the EPA Science Advisory Board.”

DATES: The public teleconferences on January 19, 2011 and January 20, 2011 will both be held from 12 p.m. to 3 p.m. (Eastern Time).

ADDRESSES: The public teleconferences will be conducted by telephone only.

FOR FURTHER INFORMATION CONTACT: Any member of the public wishing to obtain general information concerning the January 19, 2011 teleconference should contact Dr. Thomas Armitage, Designated Federal Officer (DFO), EPA Science Advisory Board (1400R), 1200 Pennsylvania Avenue, NW., Washington, DC 20460; via telephone/voice mail (202) 564-2155; fax (202) 565-2098 or via e-mail at armitage.thomas@epa.gov. Any member of the public wishing to obtain general information concerning the January 20, 2011 teleconference should contact Dr. Angela Nugent, Designated Federal Officer (DFO), EPA Science Advisory Board (1400R), 1200 Pennsylvania Avenue, NW., Washington, DC 20460; via telephone/voice mail (202) 564-2218; fax (202) 565-2098 or via e-mail at nugent.angela@epa.gov. General information concerning the EPA Science Advisory Board can be found on the SAB Web site at http://www.epa.gov/sab.

SUPPLEMENTARY INFORMATION: Pursuant to the Federal Advisory Committee Act (FACA), 5 U.S.C., App. 2, notice is hereby given that the EPA Science Advisory Board will hold two public teleconferences to conduct quality reviews of three SAB draft reports.

The SAB was established pursuant to 42 U.S.C. 4365 to provide independent scientific and technical advice to the Administrator on the technical basis for Agency positions and regulations. The SAB is a Federal Advisory Committee under FACA. The SAB will comply with the provisions of FACA and all appropriate SAB Staff Office procedural policies.

Background

January 19, 2010 teleconference. The chartered SAB will first conduct a quality review of a draft SAB panel report entitled “Review of the Effects of Mountaintop Mines and Valley Fills on Aquatic Ecosystems of the Central Appalachian Coalfields.” This draft SAB panel report reviews EPA's assessment of the ecological impacts related to mountaintop mining and valley-fill operations. Background information about this advisory activity can be found on the SAB Web site at http://yosemite.epa.gov/sab/sabproduct.nsf/fedrgstr_activites/MTM-VF%20Assessment?OpenDocument.

The SAB will also conduct a quality review of a draft SAB panel report entitled “Review of Field-Based Aquatic Life Benchmark for Conductivity in Central Appalachian Streams.” This SAB panel report reviews EPA's draft chronic aquatic life conductivity benchmark to prevent the loss of 95% of native species in Appalachian streams exposed to mountaintop mining and valley fills. Background information about this advisory activity can be found on the SAB Web site at http://yosemite.epa.gov/sab/sabproduct.nsf/fedrgstr_activites/Water%20Quality%20Conductivity?OpenDocument.

January 20, 2010 Teleconference. The chartered SAB will conduct a quality review of an SAB original study “Reactive Nitrogen in the United States; an Analysis of Inputs, Flows, Consequences, and Management Options.” The SAB study analyzes the sources and fate of reactive nitrogen and provides advice to EPA on integrated nitrogen research and control strategies. Background information about this advisory activity can be found at http://yosemite.epa.gov/sab/sabproduct.nsf/fedrgstr_activites/Nitrogen%20Project?OpenDocument.

Availability of Meeting Materials: The agenda and other materials in support of the teleconferences will be placed on the SAB Web site at http://www.epa.gov/sab in advance of the teleconferences.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. They should send their comments directly to the Designated Federal Officer for the relevant advisory committee. Oral Statements: In general, individuals or groups requesting time to make an oral presentation at a public SAB teleconference will be limited to three minutes, with no more than one-half hour for all speakers. Those interested in being placed on the public speakers list for the January 19, 2011 teleconference should contact Dr. Armitage at the contact information provided above by January 14, 2011. Those interested in being placed on the public speakers list for the January 20, 2011 teleconference should contact Dr. Nugent at the contact information provided above by January 18, 2011. Written Statements: Written statements for the January 19, 2011 teleconference should be supplied to the DFO via e-mail to armitage.thomas@epa.gov by January 14, 2011. Written statements for the January 20, 2011 teleconference should be supplied to the DFO via e-mail to nugent.angela@epa.gov by January 18, 2011. Written statements should be supplied in one of the following acceptable file format: Adobe Acrobat PDF, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Armitage or Dr. Nugent, as appropriate at the contact information provided above. To request accommodation of a disability, please contact him preferably at least 10 days prior to the teleconference, to give EPA as much time as possible to process your request.

Dated: December 16, 2010.
Anthony Maciorowski,
Deputy Director, EPA Science Advisory Board Staff Office.

[FR Doc. 2010-32455 Filed 12-23-10; 8:45 am]

BILLING CODE 6560-50-P